DEPARTMENT OF HEALTH AND HUMAN SERVICES

Health Resources and Services Administration

Demonstration Training Grants To Support Public Health Fellowships and Internships 93.249

AGENCY: Health Resources and Services Administration (HRSA).

ACTION: Notice of availability of funds.

SUMMARY: The Health Resources and Services Administration (HRSA) announces that Fiscal Year 2002 applications will be accepted to support one project under the Public Health Fellowship and Internship Demonstration Training Grant Program.

Authorizing Legislation: Applications are solicited under the authority of title VII, section 765 of the Public Health Service (PHS) Act, as amended. Section 765 authorizes the award of grants to increase the number of individuals in the public health workforce, to enhance the quality of such workforce, and to enhance the ability of the workforce to meet national, State, and local health care needs.

Purpose of Award: This Demonstration Training Grant is to support a program of innovative training and education opportunities to share expertise among public health faculty, fellow/interns, and health professionals at HRSA.

Eligible Applicants: An applicant must be: a health professions school (including an accredited school or program of public health, health administration, preventive medicine, or dental public health or a school providing health management programs), an academic health center, a State or local government, and any other appropriate public or private non-profit entity, including a faith-based and community based organization.

Review Criteria: The review criteria are: (1) Understanding of and approach to conducting a public health fellowship and internship program; (2) history of performance of applicant and its personnel; (3) adequacy of facilities and resources; (4) methods for achieving program objectives; (5) cost effectiveness; (6) national agency, and public health objectives, and (7) the ability to anticipate problems. Additional information pertaining to the review criteria will be listed in the supplement to instructions for application form HRSA 6025.

Estimated Amount of Available Funds: It is anticipated that up to $525,000 will be available in fiscal year 2002 for this program.

Estimated Number of Awards: It is estimated that 1 award will be made for fiscal year 2002.

Application Requests, Availability, Dates and Addresses: The HRSA 6025 application kit will be available on July 25, 2002 and may be downloaded via the web at http://www.hrsa.gov/bhpr/grants2002. The instructions for preparing the Public Health Fellowship and Internship Training Grant Applications are contained within application form HRSA 6025. Applicants may also request a hardcopy of the application material by contacting the HRSA Grants Application Center, 901 Russell Avenue, Suite 450, Gaithersburg, Maryland 20879, by fax calling at 1-877-477-2133, or by fax at 1-877-477-2345. In order to be considered for competition, applications must be received by mail or delivered to HRSA Grants Application Center by no later than August 26, 2002. Applications received after the deadline date may be returned to the applicant and not processed.

FOR FURTHER INFORMATION CONTACT: Douglas Lloyd, M.D., Acting Director, CPH, DSCPH, Bureau of Health Professions, HRSA, Room 8-103, Parklawn Building, 5600 Fishers Land, Rockville, Maryland 20857, or e-mail address dlloyd@hrsa.gov. Dr. Lloyd's telephone number is 301-443-6853. Capt. Barry Stern, Sr., Environmental Health Advisor, CPH, Bureau of Health Professions, HRSA, Room 8-103, Parklawn Building, 5600 Fishers Lane, Rockville, MD 20857; or e-mail address at bstern@hrsa.gov. Capt. Stern's telephone number is 301-443-6758.

Paperwork Reduction Act: The Application for the Public Health Fellowship and Internship Training Grant has been approved by the Office of Management and Budget (OMB) under the Paperwork Reduction Act. The OMB clearance number is 0915-0060. The program is not subject to the provision of Executive Order 12372, Intergovernmental Review of Federal Programs (as implemented through 45 CFR part 100). This program is also not subject to the Public Health Systems Reporting Requirements.

Dated: July 18, 2002.
Elizabeth M. Duke,
Administrator.

[FR Doc. 02-18778 Filed 7-24-02; 8:45 am]

BILLING CODE 4165-15-M